DEPARTMENT OF TRANSPORTATION

Federal Highway Administration

23 CFR Part 658

Truck Size and Weight, Route Designations—Length, Width and Weight Limitations

CFR Correction

In Title 23 of the Code of Federal Regulations, revised as of April 1, 2000, in part 658, on page 257, § 658.5 is corrected by adding the definition of “National Network” to read as follows:

§ 658.5 Definitions.

* * * * *

National Network (NN). The composite of the individual network of highways from each State on which vehicles authorized by the provisions of the STAA are allowed to operate. The network in each State includes the Interstate System, exclusive of those portions excepted under § 658.11(f) or deleted under § 658.11(d), and those portions of the Federal-aid Primary System in existence on June 1, 1991, set out by the FHWA in appendix A to this part.

* * * * *

[FR Doc. C1-55503 Filed 3-1-01; 8:45 am]

BILLING CODE 1505-01-D